DEPARTMENT OF COMMERCE

International Trade Administration

[A-570-053, C-570-054]

Antidumping and Countervailing Duty Orders on Certain Aluminum Foil From the People's Republic of China: Preliminary Affirmative Determinations of Circumvention With Respect to the Republic of Korea and the Kingdom of Thailand

AGENCY: Enforcement and Compliance, International Trade Administration, Department of Commerce.

SUMMARY: The U.S. Department of Commerce (Commerce) preliminarily determines that imports of certain aluminum foil (aluminum foil) that were exported from the Republic of Korea (Korea) and from the Kingdom of Thailand (Thailand), using inputs (i.e., aluminum foil- and sheet-gauge products) manufactured in the People's Republic of China (China), as specified below, are circumventing the antidumping duty (AD) and countervailing duty (CVD) orders on aluminum foil from China.

DATES: Applicable March 22, 2023.

FOR FURTHER INFORMATION CONTACT: Michael J. Heaney and Mark Flessner, Office VI, Enforcement and Compliance, International Trade Administration, U.S. Department of Commerce, 1401 Constitution Avenue NW, Washington, DC 20230; telephone: (202) 482-4475 and (202) 482-6312, respectively.

SUPPLEMENTARY INFORMATION:

Background

On April 19, 2018, Commerce published in the Federal Register AD and CVD Orders on U.S. imports of aluminum foil from China.¹ On July 11, 2022, pursuant to section 781(b) of the Tariff Act of 1930, as amended (the Act), and 19 CFR 351.226(b), Commerce self-initiated country-wide circumvention inquiries to determine whether imports of aluminum foil, completed in Korea and Thailand (collectively, the third countries), using inputs (i.e., aluminum foil- and sheet-gauge products) manufactured in China, are circumventing the Orders and, accordingly, should be covered by the scope of the Orders.² On October 11, 2022, Commerce selected two respondents from each of the examined third countries as the mandatory respondents in these circumvention inquiries.³

¹ See Certain Aluminum Foil from the People's Republic of China: Amended Final Determination of Sales at Less Than Fair Value and Antidumping Duty Order, 83 FR 17362 (April 19, 2018) (Aluminum Foil AD Order); see also Certain Aluminum Foil from the People's Republic of China: Amended Final Affirmative Countervailing Duty Determination and Countervailing Duty Order, 83 FR 17360 (April 19, 2018) (Aluminum Foil CVD Order) (collectively, Orders).

² See Certain Aluminum Foil from the People's Republic of China: Initiation of Circumvention Inquiries on the Antidumping Duty and Countervailing Duty Orders, 87 FR 42702 (July 18, 2022) (Initiation Notice).

³ See Memorandum, “Republic of Korea Respondent Selection,” dated October 11, 2022; see also Memorandum, “Kingdom of Thailand Respondent Identification,” dated October 11, 2022.

On December 1, 2022, Commerce extended the deadline for issuing the preliminary determinations in these circumvention inquiries by 75 days, until February 28, 2023, and extended the deadline for issuing the final determinations by 65 days, until July 18, 2023.⁴ On February 27, 2023, Commerce further extended the deadlines for issuing the preliminary and final determinations in these circumvention inquiries by an additional 15 days each, until March 15, 2023, and August 2, 2023, respectively.⁵ For a complete description of the events that followed the initiation of these circumvention inquiries, see the Preliminary Decision Memoranda.⁶ The topics included in the Preliminary Decision Memoranda are identified in Appendix I to this notice. The Preliminary Decision Memoranda are public documents and are on file electronically via Enforcement and Compliance's Antidumping and Countervailing Duty Centralized Electronic Service System (ACCESS). ACCESS is available to registered users at https://access.trade.gov. In addition, a complete version of the Preliminary Decision Memoranda can be accessed directly at https://access.trade.gov/public/FRNoticesListLayout.aspx.

⁴ See Memorandum, “Extension of Preliminary and Final Determinations in Circumvention Inquiries,” dated December 1, 2022.

⁵ See Memorandum, “Extension of Preliminary and Final Determinations in Circumvention Inquiries,” dated February 27, 2023.

⁶ See Memoranda, “Aluminum Foil from the People's Republic of China: Preliminary Decision Memorandum for the Circumvention Inquiry With Respect to the Republic of Korea,” and “Aluminum Foil from the People's Republic of China: Preliminary Decision Memorandum for the Circumvention Inquiry With Respect to the Kingdom of Thailand,” each dated concurrently with, and hereby adopted by, this notice (collectively, Preliminary Decision Memoranda).

Scope of the Orders

The merchandise covered by the Orders is certain aluminum foil. For a full description of the scope of the Orders, see the Preliminary Decision Memoranda.

Merchandise Subject to the Circumvention Inquiries

These circumvention inquiries cover aluminum foil, assembled or completed in Korea and Thailand using Chinese-origin aluminum foil and/or sheet, that is subsequently exported from Korea and Thailand to the United States (inquiry merchandise).

Methodology

Commerce made these preliminary circumvention determinations in accordance with section 781(b) of the Act and 19 CFR 351.226. For a full description of the methodology underlying the preliminary determinations, see the Preliminary Decision Memoranda.

Preliminary Circumvention Determinations

We preliminarily determine that aluminum foil, assembled or completed in Korea and Thailand by the entities identified in Appendix II to this notice, using Chinese-origin aluminum foil and/or sheet, that is subsequently exported from Korea or Thailand to the United States, is circumventing the Orders. For a detailed explanation of our determinations with respect to the entities identified in Appendix II, see the Preliminary Decision Memoranda and the “Use of Adverse Facts Available” section, below.

As detailed in the Preliminary Decision Memoranda, we also preliminarily determine that U.S. imports of inquiry merchandise exported from Korea and Thailand are circumventing the Orders on a country-wide basis. As a result, we preliminarily determine that this merchandise is covered by the Orders.

See the “Suspension of Liquidation and Cash Deposit Requirements” section below for details regarding suspension of liquidation and cash deposit requirements. See the “Certification” and “Certification Requirements” sections below for details regarding the use of certifications.

Use of Adverse Facts Available

Pursuant to section 776(a) of the Act, if necessary information is not available on the record, or an interested party withholds requested information, fails to provide requested information by the deadline or in the form and manner requested, or significantly impeded a proceeding, Commerce shall use the facts otherwise available in reaching the applicable determination. Moreover, pursuant to section 776(b) of the Act, Commerce may use inferences adverse to the interests of an interested party in selecting from among the facts otherwise available if the party fails to cooperate by acting to the best of its ability to provide requested information.

Commerce requested information from certain companies in each of the examined countries related to the quantity and value (Q&V) of their exports during the inquiry period, for purposes of respondent selection. In these Q&V questionnaires, Commerce explained that, if the company to which Commerce issued the questionnaire fails to respond to the questionnaire, or fails to provide the requested information, Commerce may find that the company failed to cooperate by not acting to the best of its ability to comply with the request for information, and may use an inference that is adverse to the company's interests in selecting from the facts otherwise available. One company to which Commerce issued the Q&V questionnaire in the Thailand inquiry (i.e., Sankyu Thai Co., Ltd. (Sankyu)) received, but failed to timely respond to, the Q&V questionnaire.

Therefore, we preliminarily find that necessary information is not available on the record and that Sankyu withheld requested information, failed to provide requested information by the deadline or in the form and manner requested, and significantly impeded these inquiries. Moreover, we find that this company failed to cooperate to the best of its ability to provide the requested Q&V information because it did not provide any response to Commerce's Q&V questionnaire. Consequently, we used adverse inferences with respect to Sankyu in selecting from among the facts otherwise available on the record, pursuant to sections 776(a) and (b) of the Act. For details regarding the adverse facts available used in our decisions, see the Preliminary Decision Memoranda.

Based on the adverse facts available used, we preliminarily determine that Sankyu exported inquiry merchandise and that U.S. entries of that merchandise are circumventing the Orders. Additionally, we are preliminarily precluding Sankyu from participating in the certification programs that we are establishing for exports of aluminum foil from Thailand.

U.S. entries of inquiry merchandise made on or after July 18, 2022, that are ineligible for certification based on the failure of Sankyu to cooperate, or for other reasons, shall remain subject to suspension of liquidation until final assessment instructions on those entries are issued, whether by automatic liquidation instructions, or by instructions pursuant to the final results of an administrative review.⁷ Interested parties that wish to have their suspended entries, if any, reviewed, and their ineligibility for the certification program re-evaluated, should request an administrative review of the relevant suspended entries during the next anniversary month of these Orders (i.e., April 2023).⁸

⁷ Commerce continues to consider the process by which companies may demonstrate eligibility for the certification program in future segments of the aluminum foil proceedings. Commerce encourages interested parties to provide comments on this topic in their case briefs.

⁸ See 19 CFR 351.213(b).

Preliminary Determination of No Shipments

On September 1, 2022, UACJ (Thailand) Co., Ltd. (UACJ) timely filed a response to Commerce's Q&V questionnaire, in which it reported that it did not sell or export the merchandise covered by the circumvention inquiry to the United States during the period of inquiry.⁹ Based on the supporting information provided by UACJ,¹⁰ we preliminarily determine that UACJ had no shipments of inquiry merchandise to the United States during the period of inquiry.

⁹ See UACJ's Letter, “Response to the Quantity and Value Questionnaire,” dated September 1, 2022.

¹⁰ Id.

Suspension of Liquidation

Based on the preliminary affirmative country-wide determinations of circumvention for Korea and Thailand, and preliminary affirmative determinations of circumvention for the companies identified in Appendix II, in accordance with 19 CFR 351.225(l)(2), we will direct U.S. Customs and Border Protection (CBP) to suspend liquidation and require a cash deposit of estimated duties on unliquidated entries of aluminum foil, assembled or completed in Korea and Thailand using Chinese-origin aluminum foil and/or sheet, that were entered, or withdrawn from warehouse, for consumption on or after July 18, 2022, the date of publication of the initiation of these circumvention inquiries in the Federal Register.

For exporters of the aluminum foil that have a company-specific cash deposit rate under the Aluminum Foil AD Order and/or Aluminum Foil CVD Order, the cash deposit rate will be the company-specific AD and/or CVD cash deposit rate established for that company in the most recently completed segment of the aluminum foil proceedings. For exporters of aluminum foil that do not have a company-specific cash deposit rate under the Aluminum Foil AD Order and/or Aluminum Foil CVD Order, the cash deposit rate will be the company-specific cash deposit rate established under the Aluminum Foil AD Order and/or Aluminum Foil CVD Order for the company that exported the aluminum foil and/or sheet to the producer/exporter in Korea or Thailand that was incorporated in the imported aluminum foil. If neither the exporter of the aluminum foil from Korea or Thailand, nor the Chinese exporter of the aluminum foil and/or sheet, has a company-specific cash deposit rate, the AD cash deposit rate will be the China-wide rate (106.09 percent), and the CVD cash deposit rate will be the “all-others” rate (18.56 percent). Commerce has established the following third-country case numbers in the Automated Commercial Environment (ACE) for such entries: Korea A-580-053/C-580-054; Thailand A-549-053/C-549-054. The suspension of liquidation will remain in effect until further notice.

Certified Entries

Entries for which the importer and exporter have met the certification requirements described below and in Appendix III to this notice will not be subject to suspension of liquidation, or the cash deposit requirements described above. Failure to comply with the applicable requisite certification requirements may result in the merchandise being subject to antidumping and countervailing duties.

Certifications

In order to administer the preliminary country-wide and company-specific affirmative determinations of circumvention for Korea and Thailand, Commerce has established importer and exporter certifications. These certifications will permit importers and exporters to establish that specific entries of aluminum foil from Korea and Thailand are not subject to suspension of liquidation or the collection of cash deposits pursuant to these preliminary country-wide affirmative determinations of circumvention because the merchandise meets the component content requirements described in the certification (see Appendix III to this notice). Because Sankyu was non-cooperative, it is not eligible to use the certification described above.¹¹

¹¹ See Preliminary Decision Memoranda at “Use of Facts Available with Adverse Inferences,” and, e.g., Anti-circumvention Inquiry of the Antidumping Duty Order on Certain Pasta from Italy: Affirmative Preliminary Determination of Circumvention of the Antidumping Duty Order, 63 FR 18364, 18366 (April 15, 1998), unchanged in Anti-Circumvention Inquiry of the Antidumping Duty Order on Certain Pasta from Italy: Affirmative Final Determination of Circumvention of the Antidumping Duty Order, 63 FR 54672, 54675 and 54676 (October 13, 1998).

Importers and exporters that claim that an entry of aluminum foil is not subject to suspension of liquidation or the collection of cash deposits based on the inputs used to manufacture such merchandise must complete the applicable certification and meet the certification and documentation requirements described below, as well as the requirements identified in the applicable certification.

Certification Requirements for Korea and Thailand

Importers are required to complete and maintain the applicable importer certification, and maintain a copy of the applicable exporter certification, and retain all supporting documentation for both certifications. With the exception of the entries described below, the importer certification must be completed, signed, and dated by the time the entry summary is filed for the relevant entry. The importer, or the importer's agent, must submit both the importer's certification and the exporter's certification to CBP as part of the entry process by uploading them into the document imaging system (DIS) in ACE. Where the importer uses a broker to facilitate the entry process, it should obtain the entry summary number from the broker. Agents of the importer, such as brokers, however, are not permitted to certify on behalf of the importer.

Exporters are required to complete and maintain the applicable exporter certification and provide the importer with a copy of that certification and all supporting documentation (e.g., invoice, purchase order, production records, etc.). With the exception of the entries described below, the exporter certification must be completed, signed, and dated by the time of shipment of the relevant entries. The exporter certification must be completed by the party selling the aluminum foil that was manufactured in Korea or Thailand to the United States.

Additionally, the claims made in the certifications and any supporting documentation are subject to verification by Commerce and/or CBP. Importers and exporters are required to maintain the certifications and supporting documentation until the later of: (1) the date that is five years after the latest entry date of the entries covered by the certification; or (2) the date that is three years after the conclusion of any litigation in United States courts regarding such entries.

For all aluminum foil from Korea and Thailand that was entered, or withdrawn from warehouse, for consumption during the period July 18, 2022 (the date of initiation of these circumvention inquiries), through the date of publication of the preliminary determinations in the Federal Register, where the entry has not been liquidated (and entries for which liquidation has not become final), the relevant certification should be completed and signed as soon as practicable, but not later than 45 days after the date of publication of these preliminary determinations in the Federal Register. For such entries, importers, and exporters each have the option to complete a blanket certification covering multiple entries, individual certifications for each entry, or a combination thereof. The exporter must provide the importer with a copy of the exporter certification within 45 days of the date of publication of these preliminary determinations in the Federal Register.

For unliquidated entries (and entries for which liquidation has not become final) of aluminum foil that were declared as non-AD/CVD type entries (e.g., type 01) and entered, or withdrawn from warehouse, for consumption in the United States during the period July 18, 2022 (the date of initiation of these circumvention inquiries) through the date of publication of these preliminary determinations in the Federal Register, for which none of the above certifications may be made, importers must file a Post Summary Correction with CBP, in accordance with CBP's regulations, regarding conversion of such entries from non-AD/CVD type entries to AD/CVD type entries (e.g., type 01 to type 03). Importers should report those AD/CVD type entries using the following third-country case numbers: Korea A-580-053/C-580-054; Thailand A-549-053/C-549-054. Other third-country case numbers may be established following the process described above. The importer should pay cash deposits on those entries consistent with the regulations governing post summary corrections that require payment of additional duties.

If it is determined that an importer and/or exporter has not met the certification and/or related documentation requirements for certain entries, Commerce intends to instruct CBP to suspend, pursuant to these preliminary country-wide affirmative determinations of circumvention and the Orders,¹² all unliquidated entries for which these requirements were not met and to require the importer to post applicable AD and CVD cash deposits equal to the rates noted above.

¹² See Orders.

Interested parties may comment in their case briefs on these certification requirements, and on the certification language contained in the appendices to this notice.

Verification

As provided in 19 CFR 351.226(f)(3), Commerce intends to verify the information relied upon in making its final determinations.

Public Comment

Case briefs or other written comments for a particular country should be submitted to the Assistant Secretary for Enforcement and Compliance no later than seven days after the date on which the last verification report for that country is issued. Rebuttal briefs, limited to issues raised in case briefs, may be submitted no later than seven days after the deadline for case briefs.¹³ Pursuant to 19 CFR 351.309(c)(2) and (d)(2), parties who submit case briefs or rebuttal briefs in these circumvention inquiries are encouraged to submit with each argument: (1) a statement of the issue; (2) a brief summary of the argument; and (3) a table of authorities. Note that Commerce has temporarily modified certain of its requirements for serving documents containing business proprietary information, until further notice.¹⁴

¹³ See 19 CFR 351.309; see also 19 CFR 351.303 (for general filing requirements).

¹⁴ See Temporary Rule Modifying AD/CVD Service Requirements Due to COVID-19, 85 FR 17006 (March 26, 2020); and Temporary Rule Modifying AD/CVD Service Requirements Due to COVID-19; Extension of Effective Period, 85 FR 41363 (July 10, 2020).

Pursuant to 19 CFR 351.310(c), interested parties who wish to request a hearing for a particular country, limited to issues raised in the case and rebuttal briefs, must submit a written request to the Assistant Secretary for Enforcement and Compliance, U.S. Department of Commerce, within 30 days after the date of publication of this notice in the Federal Register. Requests should contain: (1) the requesting party's name, address, and telephone number; (2) the number of individuals from the requesting party that will attend the hearing and whether any of those individuals is a foreign national; and (3) a list of the issues that the party intends to discuss at the hearing. If a request for a hearing is made, Commerce intends to hold the hearing at a time and date to be determined. Parties should confirm by telephone the date, time, and location of the hearing two days before the scheduled date of the hearing.

U.S. International Trade Commission Notification

Commerce, consistent with section 781(e) of the Act, will notify the U.S. International Trade Commission (ITC) of these preliminary determinations to include the merchandise subject to these circumvention inquiries within the Orders. Pursuant to section 781(e) of the Act, the ITC may request consultations concerning Commerce's proposed inclusion of the inquiry merchandise. If, after consultations, the ITC believes that a significant injury issue is presented by the proposed inclusion, it will have 60 days from the date of notification by Commerce to provide written advice.

Notification to Interested Parties

These determinations are issued and published in accordance with section 781(b) of the Act and 19 CFR 351.226(g)(1).

Dated: March 15, 2023.
Lisa W. Wang,
Assistant Secretary for Enforcement and Compliance.

Appendix No. | Appendix name
I | Topics Discussed in the Preliminary Decision Memoranda.
II | Companies Preliminarily Found to be Circumventing the Orders.
III | Certification Regarding Chinese Components.

Appendices

Appendix I

Topics Discussed in the Preliminary Decision Memoranda

Korea

I. Summary

II. Background

III. Scope of the Orders

IV. Merchandise Subject to Circumvention Inquiry

V. Period of the Circumvention Inquiry

VI. Non-Market Economy Methodology for Valuing Material Inputs From China

VII. Statutory and Regulatory Framework for the Circumvention Inquiry

VIII. Statutory Analysis for the Circumvention Inquiry

IX. Summary of Statutory Analysis

X. Verification

XI. Certification Process and Country-Wide Affirmation Determination of Circumvention

XII. Recommendation

Thailand

I. Summary

II. Background

III. Scope of the Orders

IV. Merchandise Subject to Circumvention Inquiry

V. Period of the Circumvention Inquiry

VI. Affiliation and Collapsing

VII. Non-Market Economy Methodology for Valuing Material Inputs From China

VIII. Statutory and Regulatory Framework for the Circumvention Inquiry

IX. Use of Facts Available With Adverse Inferences

X. Statutory Analysis for the Circumvention Inquiry

XI. Summary of Statutory Analysis

XII. Verification

XIII. Certification Process and Country-Wide Affirmation Determination of Circumvention

XIV. Recommendation

Appendix II

Companies Found To Be Circumventing the Orders

Korea

1. Dong-IL Aluminium Co., Ltd.

2. Lotte Aluminium Co., Ltd.

3. Dongwon Systems Corp.

4. ILJIN ALTECH Co., Ltd.

5. Korea Aluminium Co., Ltd.

6. Sam-A Aluminium Co., Ltd.

Thailand

1. Dingheng New Materials Co., Ltd.

2. Ding Li New Materials Co., Ltd.

3. Sankyu Thai Co., Ltd. (based on adverse facts available)

Appendix III

Certification Regarding Chinese Components

Importer Certification

I hereby certify that:

A. My name is {IMPORTING COMPANY OFFICIAL'S NAME} and I am an official of {NAME OF IMPORTING COMPANY}, located at {ADDRESS OF IMPORTING COMPANY}.

B. I have direct personal knowledge of the facts regarding the importation into the Customs territory of the United States of the aluminum foil completed in {COUNTRY} that entered under the entry summary number(s), identified below, and are covered by this certification. “Direct personal knowledge” refers to the facts the certifying party is expected to have in its own records. For example, the importer should have direct personal knowledge of the exporter's and/or seller's identity and location.

C. If the importer is acting on behalf of the first U.S. customer, include the following sentence as paragraph C of this certification:

The aluminum foil covered by this certification was imported by {NAME OF IMPORTING COMPANY} on behalf of {NAME OF U.S. CUSTOMER}, located at {ADDRESS OF U.S. CUSTOMER}.

If the importer is not acting on behalf of the first U.S. customer, include the following sentence as paragraph C of this certification:

{NAME OF IMPORTING COMPANY} is not acting on behalf of the first U.S. customer.

D. The aluminum foil covered by this certification was shipped to {NAME OF PARTY IN THE UNITED STATES TO WHOM THE MERCHANDISE WAS FIRST SHIPPED}, located at {U.S. ADDRESS TO WHICH MERCHANDISE WAS SHIPPED}.

E. I have personal knowledge of the facts regarding the production of the imported products covered by this certification. “Personal knowledge” includes facts obtained from another party, (e.g., correspondence received by the importer (or exporter) from the producer regarding the source of the inputs used to produce the imported products).

F. The importer certifies that the aluminum foil produced in {COUNTRY} that is covered by this certification was not manufactured using aluminum foil and/or sheet produced in China, regardless of whether sourced directly from a Chinese producer or from a downstream supplier.

G. The aluminum foil covered by this certification is not covered by the antidumping duty or countervailing duty orders on certain aluminum foil from the People's Republic of China.

H. This certification applies to the following entries (repeat this block as many times as necessary):

Entry Summary #:

Entry Summary Line Item #:

Foreign Seller:

Foreign Seller's Address:

Foreign Seller's Invoice #:

Foreign Seller's Invoice Line Item #:

Producer:

Producer's Address:

I. I understand that {NAME OF IMPORTING COMPANY} is required to maintain a copy of this certification and sufficient documentation supporting this certification (i.e., documents maintained in the normal course of business, or documents obtained by the certifying party, for example, product specification sheets, production records, invoices, etc.) until the later of: (1) the date that is five years after the latest entry date of the entries covered by the certification; or (2) the date that is three years after the conclusion of any litigation in United States courts regarding such entries.

J. I understand that {NAME OF IMPORTING COMPANY} is required to maintain a copy of the exporter's certification (attesting to information regarding the production and/or exportation of the imported merchandise identified above), and any supporting documentation provided to the importer by the exporter, until the later of: (1) the date that is five years after the latest entry date of the entries covered by the certification; or (2) the date that is three years after the conclusion of any litigation in United States courts regarding such entries.

K. I understand that {NAME OF IMPORTING COMPANY} is required to provide U.S. Customs and Border Protection (CBP) and/or the U.S. Department of Commerce (Commerce) with the importer certification, and any supporting documentation, and a copy of the exporter's certification, and any supporting documentation provided to the importer by the exporter, upon the request of either agency.

L. I understand that the claims made herein, and the substantiating documentation, are subject to verification by CBP and/or Commerce.

M. I understand that failure to maintain the required certifications and supporting documentation, or failure to substantiate the claims made herein, or not allowing CBP and/or Commerce to verify the claims made herein, may result in a de facto determination that all entries to which this certification applies are entries of merchandise that is covered by the scope of the antidumping and countervailing duty orders on aluminum foil from China. I understand that such a finding will result in:

(i) suspension of liquidation of all unliquidated entries (and entries for which liquidation has not become final) for which these requirements were not met;

(ii) the importer being required to post the antidumping duty and countervailing duty cash deposits determined by Commerce; and

(iii) the importer no longer being allowed to participate in the certification process.

N. I understand that agents of the importer, such as brokers, are not permitted to make this certification.

O. This certification was completed and signed on, or prior to, the date of the entry summary if the entry date is more than 14 days after the date of publication of the notice of Commerce's preliminary determination of circumvention in the Federal Register. If the entry date is on or before the 14th day after the date of publication of the notice of Commerce's preliminary determination of circumvention in the Federal Register, this certification was completed and signed by no later than 45 days after publication of the notice of Commerce's preliminary determination of circumvention in the Federal Register.

P. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

Exporter Certification

The party that made the sale to the United States should fill out the exporter certification.

I hereby certify that:

A. My name is {COMPANY OFFICIAL'S NAME} and I am an official of {NAME OF EXPORTING COMPANY}, located at {ADDRESS OF EXPORTING COMPANY}.

B. I have direct personal knowledge of the facts regarding the production and exportation of the aluminum foil for which sales are identified below. “Direct personal knowledge” refers to facts the certifying party is expected to have in its own records. For example, an exporter should have direct personal knowledge of the producer's identity and location.

C. The aluminum foil covered by this certification was shipped to {NAME OF PARTY IN THE UNITED STATES TO WHOM MERCHANDISE WAS FIRST SHIPPED}, located at {U.S. ADDRESS TO WHICH MERCHANDISE WAS SHIPPED}.

D. The seller certifies that the aluminum foil produced in {COUNTRY} that is covered by this certification was not manufactured using aluminum foil and/or sheet produced in China, regardless of whether sourced directly from a Chinese producer or from a downstream supplier.

E. The aluminum foil covered by this certification is not covered by the antidumping duty or countervailing duty orders on certain aluminum foil from the People's Republic of China.

F. This certification applies to the following sales to {NAME OF U.S. CUSTOMER}, located at {ADDRESS OF U.S. CUSTOMER} (repeat this block as many times as necessary):

Foreign Seller's Invoice # to U.S. Customer:

Foreign Seller's Invoice to U.S. Customer Line Item #:

Producer Name:

Producer's Address:

Producer's Invoice # to the Foreign Seller: (if the foreign seller and the producer are the same party, report “NA” here)

G. I understand that {EXPORTING COMPANY} is required to maintain a copy of this certification and sufficient documentation supporting this certification (i.e., documents maintained in the normal course of business, or documents obtained by the certifying party, for example, product specification sheets, customer specification sheets, production records, invoices, etc.) until the later of: (1) the date that is five years after the latest entry date of the entries covered by the certification; or (2) the date that is three years after the conclusion of any litigation in United States courts regarding such entries.

H. I understand that {EXPORTING COMPANY} is required to provide the U.S. importer with a copy of this certification and is required to provide U.S. Customs and Border Protection (CBP) and/or the U.S. Department of Commerce (Commerce) with this certification, and any supporting documents, upon the request of either agency.

I. I understand that the claims made herein, and the substantiating documentation, are subject to verification by CBP and/or Commerce.

J. I understand that failure to maintain the required certification and supporting documentation, or failure to substantiate the claims made herein, or not allowing CBP and/or Commerce to verify the claims made herein, may result in a de facto determination that all sales to which this certification applies are sales of merchandise that is covered by the scope of the antidumping and countervailing duty orders on aluminum foil from China. I understand that such a finding will result in:

(i) suspension of liquidation of all unliquidated entries (and entries for which liquidation has not become final) for which these requirements were not met;

(ii) the importer being required to post the antidumping and countervailing duty cash deposits determined by Commerce; and

(iii) the seller/exporter no longer being allowed to participate in the certification process.

K. I understand that agents of the seller/exporter, such as freight forwarding companies or brokers, are not permitted to make this certification.

L. This certification was completed and signed, and a copy of the certification was provided to the importer, on, or prior to, the date of shipment if the shipment date is after the date of publication of the notice of Commerce's preliminary determination of circumvention in the Federal Register. If the shipment date is on or before the date of publication of the notice of Commerce's preliminary determination of circumvention in the Federal Register, this certification was completed and signed, and a copy of the certification was provided to the importer, by no later than 45 days after publication of the notice of Commerce's preliminary determination of circumvention in the Federal Register.

M. I am aware that U.S. law (including, but not limited to, 18 U.S.C. 1001) imposes criminal sanctions on individuals who knowingly and willfully make materially false statements to the U.S. government.

Signature

{NAME OF COMPANY OFFICIAL}

{TITLE OF COMPANY OFFICIAL}

{DATE}

[FR Doc. 2023-05832 Filed 3-21-23; 8:45 am]

BILLING CODE 3510-DS-P